DEPARTMENT OF JUSTICE

Federal Bureau of Investigation

[OMB Number 1110-0042]

Agency Information Collection Activities; Proposed New Collection; Comments Requested

ACTION: 60-Day Notice of Information Collection Under Review: CJIS Customer Satisfaction Surveys

The Department of Justice (DOJ), Federal Bureau of Investigation (FBI), Criminal Justice Information Services (CJIS) Division will be submitting the following information collection request to the Office of Management and Budget (OMB) for review and clearance in accordance with review procedures of the Paperwork Reduction Act of 1995. Comments are encouraged and will be accepted for “sixty days” until [ - - ]. This process is conducted in accordance with 5 CFR 1320.10.

If you have comments, especially on the estimated public burden or associated response time, suggestions, or need a copy of the proposed information collection instrument with instructions or additional information, please contact Ashley K. Grove, IT Specialist, Federal Bureau of Investigation, CJIS Division, Module D3, 1000 Custer Hollow Road, Clarksburg, West Virginia 26306-0151, or facsimile at (304) 625-3457.

Written comments and suggestions from the public and affected agencies concerning the proposed collection of information are encouraged. Your comments should address one or more of the following four points:

—Evaluate whether the proposed collection of information is necessary for the proper performance of the functions of the agency/component, including whether the information will have practical utility;

—Evaluate the accuracy of the agencies/components estimate of the burden of the proposed collection of information, including the validity of the methodology and assumptions used;

—Enhance the quality, utility, and clarity of the information to be collected; and

—Minimize the burden of the collection of information on those who are to respond, including the use of appropriate automated, electronic, mechanical, or other technological collection techniques or other forms of information technology, e.g., permitting electronic submission of responses.

Overview of this Information Collection:

(1) Type of Information Collection: Revision of a previously approved collection.

(2) Title of the Form/Collection: CJIS Customer Satisfaction Surveys.

(3) Agency Form Number, if any, and the applicable component of the department sponsoring the collection:

Form Number: 1-760, 1-761, 1-762, 1-763, 1-764, 1-765, 1-766, 1-770.

Criminal Justice Information Services Division, Federal Bureau of Investigation, Department of Justice.

(4) Affected Public who will be asked or required to respond, as well as a brief abstract:

Primary: State, local or tribal governments. Other: Federal Government and business or other for-profit.

Brief Abstract: The FBI established the CJIS Division to serve as the focal point and central repository for criminal justice information services within the FBI. The CJIS Division is responsible for the following programs administered by the FBI for the benefit of local, state, federal, and foreign criminal justice agencies: Integrated Automated Fingerprint Identification System; Law Enforcement Online; National Crime Information Center; National Instant Criminal Background Check System—Federal Firearm Licensees; National Instant Criminal Background Check System—Point of Contact and Partial Point of Contact States; Uniform Crime Reporting; Interstate Identification Index; and the CJIS Division Intelligence Group.

CJIS will be conducting a customer service survey for each of the eight aforementioned programs. These surveys will be used to establish approval rating baselines of CJIS Division services in addition to identifying areas where our services can be improved or new services established to assist the criminal justice community with the performance of their official duties.

(5) An estimate of the total number of respondents and the amount of time estimated for an average respondent to respond:

Integrated Automated Fingerprint Identification System − Respondents = 400, Average Completion Time = 4 minutes; Law Enforcement Online − Respondents = 400, Average Completion Time = 2 minutes; National Crime Information Center − Respondents = 400, Average Completion Time = 3 minutes; National Instant Criminal Background Check System − Federal Firearm Licensees − Respondents = 400, Average Completion Time = 2 minutes; National Instant Criminal Background Check System − Point of Contact and Partial Point of Contact − Respondents = 21, Average Completion Time = 11 minutes; Uniform Crime Reporting − Respondents = 400, Average Completion Time = 3 minutes; Interstate Identification Index − Respondents = 400, Average Completion Time = 3 minutes; and the CJIS Division Intelligence Group − Respondents = 400, Average Completion Time = 3 minutes.

(6) An estimate of the total public burden (in hours) associated with the collection:

There are an estimated 137 total public burden hours associated with this collection. If additional information is required contact: Ms. Lynn Bryant, Department Clearance Officer, Policy and Planning Staff, Justice Management Division, United States Department of Justice, Patrick Henry Building, Suite 1600, 601 D Street, NW., Washington, DC 20530.

Dated: July 27,2007.
Lynn Bryant,
Department Clearance Officer, PRA, United States Department of Justice.

[FR Doc. E7-14951 Filed 8-1-07; 8:45 am]

BILLING CODE 4410-02-P